DEPARTMENT OF ENERGY

Federal Energy Regulatory Commission

Combined Notice of Filings #1

Take notice that the Commission received the following electric rate filings:

Docket Numbers: ER17-1016-003.

Applicants: PJM Interconnection, L.L.C., Baltimore Gas and Electric Company, Commonwealth Edison Company, Illinois Commerce Commission.

Description: Settlement Agreement Compliance Filing of PJM Interconnection, L.L.C., the Illinois Commerce Commission, and Exelon Corporation, on behalf of Commonwealth Edison Company and Baltimore Gas and Electric Company.

Filed Date: 5/17/18.

Accession Number: 20180517-5038.

Comments Due: 5 p.m. ET 6/7/18.

Docket Numbers: ER17-2400-004.

Applicants: SP Butler Solar, LLC.

Description: Compliance filing: SP Butler Solar MBR Tariff Compliance Filing to be effective 5/23/2018.

Filed Date: 5/22/18.

Accession Number: 20180522-5228.

Comments Due: 5 p.m. ET 6/12/18.

Docket Numbers: ER17-2401-004.

Applicants: SP Decatur Parkway Solar, LLC.

Description: Compliance filing: SP Decatur Parkway Solar MBR Tariff Compliance Filing to be effective 5/23/2018.

Filed Date: 5/22/18.

Accession Number: 20180522-5229.

Comments Due: 5 p.m. ET 6/12/18.

Docket Numbers: ER17-2403-004.

Applicants: SP Pawpaw Solar, LLC.

Description: Compliance filing: SP Pawpaw Solar MBR Tariff Compliance Filing to be effective 5/23/2018.

Filed Date: 5/22/18.

Accession Number: 20180522-5233.

Comments Due: 5 p.m. ET 6/12/18.

Docket Numbers: ER17-2404-004.

Applicants: SP Sandhills Solar, LLC.

Description: Compliance filing: SP Sandhills Solar MBR Tariff Compliance Filing to be effective 5/23/2018.

Filed Date: 5/22/18.

Accession Number: 20180522-5232.

Comments Due: 5 p.m. ET 6/12/18.

Docket Numbers: ER17-2453-001.

Applicants: Imperial Valley Solar 3, LLC.

Description: Notice of Non-Material Change in Status of Imperial Valley Solar 3, LLC.

Filed Date: 5/22/18.

Accession Number: 20180522-5302.

Comments Due: 5 p.m. ET 6/12/18.

Docket Numbers: ER18-865-002.

Applicants: Power 52 Inc.

Description: Tariff Amendment: Power52 MBRA to be effective 4/17/2018.

Filed Date: 5/22/18.

Accession Number: 20180522-5251.

Comments Due: 5 p.m. ET 6/12/18.

Docket Numbers: ER18-1665-000.

Applicants: Golden Spread Electric Cooperative, Inc.

Description: § 205(d) Rate Filing: TCEC Section 20 Filing to be effective 1/1/2018.

Filed Date: 5/22/18.

Accession Number: 20180522-5225

Comments Due: 5 p.m. ET 6/12/18.

Docket Numbers: ER18-1666-000.

Applicants: South Carolina Electric & Gas Company.

Description: § 205(d) Rate Filing: SCPSA CIAC to be effective 7/23/2018.

Filed Date: 5/22/18.

Accession Number: 20180522-5236.

Comments Due: 5 p.m. ET 6/12/18.

Docket Numbers: ER18-1667-000.

Applicants: Antelope Expansion 2, LLC.

Description: Baseline eTariff Filing: Antelope Expansion 2 MBR Tariff to be effective 5/23/2018.

Filed Date: 5/22/18.

Accession Number: 20180522-5239.

Comments Due: 5 p.m. ET 6/12/18.

Docket Numbers: ER18-1668-000.

Applicants: New York Independent System Operator, Inc.

Description: § 205(d) Rate Filing: NYISO 205 filing of EDR tariff revisions to be effective 7/22/2018.

Filed Date: 5/22/18.

Accession Number: 20180522-5252.

Comments Due: 5 p.m. ET 6/12/18.

Docket Numbers: ER18-1669-000.

Applicants: Midcontinent Independent System Operator, Inc.

Description: § 205(d) Rate Filing: 2018-05-22_SA 3115 LCM-ELL GIA (C042) to be effective 6/10/2018.

Filed Date: 5/22/18.

Accession Number: 20180522-5263.

Comments Due: 5 p.m. ET 6/12/18.

Docket Numbers: ER18-1670-000.

Applicants: CXA Sundevil Holdco, Inc.

Description: Tariff Cancellation: Notice of Cancellation of Market-Based Rate Tariff to be effective 5/24/2018.

Filed Date: 5/23/18.

Accession Number: 20180523-5040

Comments Due: 5 p.m. ET 6/13/18.

Docket Numbers: ER18-1671-000.

Applicants: CXA Sundevil Power I, Inc.

Description: Tariff Cancellation: Notice of Cancellation of Market-Based Rate Tariff to be effective 5/24/2018.

Filed Date: 5/23/18.

Accession Number: 20180523-5054.

Comments Due: 5 p.m. ET 6/13/18.

Docket Numbers: ER18-1672-000.

Applicants: CXA Sundevil Power II, Inc.

Description: Tariff Cancellation: Notice of Cancellation of Market-Based Rate Tariff to be effective 5/24/2018.

Filed Date: 5/23/18.

Accession Number: 20180523-5060.

Comments Due: 5 p.m. ET 6/13/18.

Docket Numbers: ER18-1673-000.

Applicants: Avista Corporation.

Description: Notice of cancellation of multiple Enabling Service Agreements (No. 83, et al.) of Avista Corporation.

Filed Date: 5/22/18.

Accession Number: 20180522-5299.

Comments Due: 5 p.m. ET 6/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2018.
Nathaniel J. Davis, Sr.,
Deputy Secretary.

[FR Doc. 2018-11515 Filed 5-29-18; 8:45 am]

BILLING CODE 6717-01-P